DEPARTMENT OF STATE

[Public Notice: 9753]

Bureau of Economic and Business Affairs, U.S. Department of State Procedures for the Receipt of Written Communications Regarding Decisions That Have Been Issued by the Department of Transportation That Are Subject to Approval by the President Under 49 U.S.C. 41307

ACTION: Notice of request for comment.

SUMMARY: This notice establishes procedures for the receipt by the Department of State of written communications from private parties regarding decisions that have been issued by the Department of Transportation that are subject to approval by the President under 49 U.S.C. 41307.

DATES: This notice is effective on November 2, 2016.

ADDRESSES: All written communications are to be submitted electronically via the Federal e-Rulemaking Portal at http://www.regulations.gov, docket number DOS-2016-0067 and must reference the Department of Transportation docket number and the title of the proceeding.

FOR FURTHER INFORMATION CONTACT: Paul A. Brown, Transportation Affairs, Bureau of Economic and Business Affairs, U.S. Department of State (Phone: (202) 647-8001 or Email: BrownPA@state.gov).

SUPPLEMENTARY INFORMATION: Consistent with E.O. 12597 (May 13, 1987), the Department of State is establishing updated, electronic procedures to receive and make publicly available written communications to the Department of State from private parties regarding decisions that have been issued by the Department of Transportation that are submitted for the President's approval under 49 U.S.C. 41307.

All written communications are to be submitted electronically via the Federal e-Rulemaking Portal at http://www.regulations.gov, docket number DOS-2016-0067 and must reference the Department of Transportation docket number and the title of the proceeding. Written communications are not private and will not be edited to remove identifying or contact information. The Department of State cautions against including any information that the entity submitting does not want publicly disclosed. The Department requests that any party soliciting or aggregating comments received from other persons for submission to the Department, inform those persons that the Department will not edit their comments to remove identifying or contact information, and that they should not include any information in their comments that they do not want publicly disclosed. If the Department receives written communications from private parties on the subject in question through other means, it will post such communications on the docket. Further, to the extent private parties communicate their views orally to Department officials, the Department will provide notice on the docket that such communication has occurred, including a summary of the views communicated. The Department does not intend to respond in writing to any communications. To the extent that it does respond in writing to any submissions, it will post the response on the docket.

Dated: October 27, 2016.
Thomas Engle,
Deputy Assistant Secretary for Transportation Affairs, Department of State.

[FR Doc. 2016-26467 Filed 11-1-16; 8:45 am]

BILLING CODE 4710-AE-P